DEPARTMENT OF TRANSPORTATION

Federal Motor Carrier Safety Administration

[Docket No. FMCSA-2012-0129]

Agency Information Collection Activities; Extension of an Approved Information Collection Request; Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. On May 17, 2012, FMCSA published a Federal Register notice allowing for a 60-day comment period on the ICR. The agency received no comments in response to this notice.

DATES: Please send your comments by December 21, 2012. OMB must receive your comments by this date to act quickly on the ICR.

ADDRESSES: All comments should reference Federal Docket Management System (FDMS) Docket Number FMCSA-2012-0129. Interested persons are invited to submit written comments on the proposed information collection to the Office of Information and Regulatory Affairs, Office of Management and Budget. Comments should be addressed to the attention of the Desk Officer, Department of Transportation/Federal Motor Carrier Safety Administration, and sent via electronic mail to oria_submission@omb.eop.gov, or faxed to (202) 395-6974, or mailed to the Office Information and Regulatory Affairs, Office of Management and Budget, docket Library, Room 10102, 725 17th Street NW., Washington, DC 20503.

FOR FURTHER INFORMATION CONTACT: Mr. Thomas Yager, Chief, Driver and Carrier Operations Division, Office of Bus and Truck Standards and Operations, U.S. Department of Transportation, Federal Motor Carrier Safety Administration, 6th Floor, West Building, 1200 New Jersey Avenue SE., Washington, DC, 20590-0001. Telephone: 202-366-4325. Email: MCPSD@dot.gov. Office hours are from 9 a.m. to 5 p.m., Monday through Friday, except Federal Holidays.

SUPPLEMENTARY INFORMATION:

Title: Training Certification for Entry-Level Commercial Motor Vehicle Operators.

OMB Control Number: 2126-0028.

Type of Request: Extension of a currently-approved ICR.

Respondents: Entry-level CDL drivers.

Estimated Number of Respondents: 397,500.

Estimated Time per Response: 10 minutes.

Expiration Date: November 30, 2012.

Frequency of Response: On occasion.

Estimated Total Annual Burden: 66,250 hours. FMCSA estimates that an entry-level driver requires approximately 10 minutes to complete the tasks necessary to comply with the regulation. Those tasks are photocopying the training certificate, giving the photocopy to the motor carrier employer, and placing the original of the certificate in a personal file. Therefore, the annual burden for all entry-level drivers is 66,250 hours [397,500 × 10/60 minutes to respond = 66,250 hours].

Background

The Commercial Motor Vehicle Safety Act of 1986 (49 U.S.C. 31301 et seq.) established the CDL program and directed the Federal Highway Administration (FHWA), FMCSA's predecessor agency, to establish minimum qualifications for issuance of a CDL. After public notice and an opportunity for comment, the FHWA established driver knowledge-and-skills standards. The Agency required the States to ensure by testing that each CDL applicant meets these standards before issuing a CDL to the applicant.

In 1985, the FHWA published “Model Curriculum for Training Tractor-Trailer Drivers” (Model Curriculum). In the years following, the FHWA did not mandate driver training for three principal reasons. First, the Agency did not believe it could justify the use of the considerable Agency resources that would be required to develop and sustain a nationwide, comprehensive driver-training program. Second, the FHWA believed that the level of safety of entry-level drivers would soon be improving because the States were nearing the deadline for enforcing the new mandatory CDL-licensing knowledge-and-skills standards. Third, many truck-driving schools were strengthening their training curricula in light of the new Model Curriculum (“Truck Safety: Information on Driver Training,” Report of the U.S. General Accounting Office, GAO/RCED-89-163, August 1989, pages 4 and 5).

In 1991, the Intermodal Surface Transportation Efficiency Act of 1991 (ISTEA) (Public Law 102-240, December 18, 1991) directed the FHWA to “commence a rulemaking proceeding on the need to require training of all entry-level drivers of CMVs” [Section 4007(a)(2)]. On June 21, 1993, the FHWA issued an advance notice of proposed rulemaking entitled, “Training for All Entry-Level Drivers of Commercial Motor Vehicles (CMVs)” (58 FR 33874). The Agency also began a study of the effectiveness of the driver training currently being received by entry-level CMV drivers. The results of the study were published in 1997 under the title “Adequacy of Commercial Motor Vehicle Driver Training” (Adequacy Report), which is available under FMCSA Docket 1997-2199 at the Federal eRulemaking Portal (www.regulations.gov) described above. The study found that CMV drivers (i.e. drivers of heavy trucks, motorcoaches, and school buses) were not receiving adequate entry-level training.

On August 15, 2003, FMCSA published a notice of proposed rulemaking (NPRM) entitled, “Minimum Training Requirements for Entry-Level Commercial Motor Vehicle Operators” (68 FR 48863). The Agency proposed mandatory training for entry-level CMV operators hauling property (not passengers), thereby addressing the vast majority of the CMV drivers identified by the Adequacy Report. FMCSA proposed entry-level training on four topics it believed would provide the greatest benefit to the safety of CMV operations: Driver qualifications, hours-of-service of drivers, driver wellness and whistle-blower protection. On May 21, 2004, after a period of public comment, FMCSA published a rule prohibiting a motor carrier from allowing an entry-level driver employee to operate a CMV transporting property until he or she provided the carrier with a duly-executed certificate indicating that he or she had been trained in the four subject areas noted above (69 FR 2004). The rule became effective on July 20, 2004. Training providers were required to provide a certificate to each driver trainee receiving the requisite training.

In 2005, the U.S. Court of Appeals for the District of Columbia Circuit held that FMCSA failed to consider important factors identified by the Adequacy Report in developing its entry-level driver-training rule. While the Court left the 2004 rule in place, it also directed the Agency to give the rule further consideration consistent with its decision. On December 26, 2007, FMCSA proposed revised minimum standards for the mandatory training of entry-level CDL drivers (72 FR 73226). The Agency has analyzed the public comments received in response to the notice, and is continuing to develop a final rule on this subject.

Definitions

(1) “Federal Motor Carrier Safety Regulations” (FMCSRs) are parts 350-399 of volume 49 of the Code of Federal Regulations. (2) “Commercial motor vehicle” (CMV) means a motor vehicle or combination of motor vehicles used in commerce to transport passengers or property if the motor vehicle—(a) has a gross combination weight rating of 11,794 kilograms or more (26,001 pounds or more) inclusive of a towed unit(s) with a gross vehicle weight rating (GVWR) of more than 4,536 kilograms (10,000 pounds), or (b) has a GVWR of 11,794 or more kilograms (26,001 pounds or more), or (c) is designed to transport 16 or more passengers, including the driver, or (d) is of any size and is used in the transportation of hazardous materials as defined in 49 CFR 383.5 (49 CFR 383.5). The definition of CMV found at 49 CFR 390.5 of the FMCSRs is not applicable to this notice. (3) “Commercial Driver's License (CDL) Driver” means the operator of a CMV because such operators must possess a valid commercial driver's license (CDL)(Section 383.23(a)(2)). (4) “Entry-level CDL Driver” means a driver with less than one year of experience operating a CMV with a CDL (49 CFR 380.502(b)).

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued on: November 8, 2012.
Kelly Leone,
Associate Administrator for Office of Research and Information Technology.

[FR Doc. 2012-28306 Filed 11-20-12; 8:45 am]

BILLING CODE 4910-EX-P